DEPARTMENT OF COMMERCE

International Trade Administration

(A-570-851)

Certain Preserved Mushrooms from the People's Republic of China: Final Results of Antidumping Duty New Shipper Reviews

AGENCY: Import Administration, International Trade Administration, Department of Commerce.

SUMMARY: On April 1, 2009, the Department of Commerce (the Department) published in the Federal Register the preliminary results of these new shipper reviews of the antidumping duty order on certain preserved mushrooms from the People's Republic of China (PRC) for Zhangzhou Gangchang Canned Foods Co., Ltd., Fujian (Zhangzhou Gangchang) and Zhejiang Iceman Group Co., Ltd. (Zhejiang Iceman). See Certain Preserved Mushrooms From the People's Republic of China: Preliminary Results of Antidumping Duty New Shipper Reviews, 74 FR 14772 (April 1, 2009) (Preliminary Results). We gave interested parties an opportunity to comment on the Preliminary Results, and received no comments. We also made no changes to the Preliminary Results. Therefore, the final results do not differ from the Preliminary Results.

EFFECTIVE DATE: June 18, 2009.

FOR FURTHER INFORMATION CONTACT: Tyler Weinhold, Fred Baker, or Robert James, AD/CVD Operations, Office 7, Import Administration, International Trade Administration, U.S. Department of Commerce, 14th Street and Constitution Avenue, NW, Washington, DC 20230; telephone (202) 482-1121, (202) 482-2924 or (202) 482-0649, respectively.

SUPPLEMENTARY INFORMATION: We published the Preliminary Results for these new shipper reviews on April 1, 2009. In the Preliminary Results, the Department stated that interested parties were to submit case briefs within 30 days of publication of the Preliminary Results and rebuttal briefs within five days after the due date for filing case briefs. See Preliminary Results at 14778. No interested party submitted a case or rebuttal brief.

Period of Review

The period of review (POR) is February 1, 2008, through July 31, 2008.

Scope of the Order

The products covered by this order are certain preserved mushrooms, whether imported whole, sliced, diced, or as stems and pieces. The certain preserved mushrooms covered under this order are the species Agaricus bisporus and Agaricus bitorquis. “Certain Preserved Mushrooms” refers to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing.¹

¹ On June 19, 2000, the Department affirmed that “marinated,” “acidified,” or “pickled” mushrooms containing less than 0.5 percent acetic acid are within the scope of the antidumping duty order. See Recommendation Memorandum—Final Ruling of Request by Tak Fat, et al. for Exclusion of Certain Marinated, Acidified Mushrooms from the Scope of the Antidumping Duty Order on Certain Preserved Mushrooms from the People's Republic of China,“ dated June 19, 2000. On February 9, 2005, this decision was upheld by the United States Court of Appeals for the Federal Circuit. See Tak Fat v. United States, 396 F.3d 1378 (Fed. Cir. 2005).

Excluded from the scope of this order are the following: (1) All other species of mushroom, including straw mushrooms; (2) all fresh and chilled mushrooms, including “refrigerated” or “quick blanched mushrooms” (3) dried mushrooms; (4) frozen mushrooms; and (5) “marinated,” “acidified,” or “pickled” mushrooms, which are prepared or preserved by means of vinegar or acetic acid, but may contain oil or other additives.

The merchandise subject to this order is classifiable under subheadings: 2003.10.0127, 2003.10.0131, 2003.10.0137, 2003.10.0143, 2003.10.0147, 2003.10.0153 and 0711.51.0000 of the Harmonized Tariff Schedule of the United States (HTSUS). Although the HTSUS subheadings are provided for convenience and customs purposes, the written description of the scope of the order is dispositive.

Separate Rates

In proceedings involving non-market economy (NME) countries, the Department begins with a rebuttable presumption that all companies within the country are subject to government control and, thus, should be assigned a single antidumping duty deposit rate. It is the Department's policy to assign all exporters of merchandise subject to review in an NME country this single rate unless an exporter can demonstrate that it is sufficiently independent so as to be entitled to a separate rate.

In the Preliminary Results, the Department announced its determination that Zhangzhou Gangchang and Zhejiang Iceman had demonstrated their eligibility for separate rate status. We received no comments from interested parties regarding this determination. In these final results of review, we continue to find the evidence placed on the record by Zhangzhou Gangchang and Zhejiang Iceman demonstrates an absence of government control, both in law and in fact, with respect to their exports of the merchandise under review. Thus, we have determined that Zhangzhou Gangchang and Zhejiang Iceman are eligible to receive separate rates.

Changes Since the Preliminary Results

We made no changes to the Preliminary Results.

Final Results of Review

The Department has determined that the following margins exist for the period February 1, 2008, through July 31, 2008:

Exporter/Manufacturer | Weighted-Average Margin (Percentage)
Zhangzhou Gangchang Canned Foods Co., Ltd., Fujian | 0.00
Zhejiang Iceman Group Co., Ltd. | 0.00

Assessment Rates

Pursuant to these final results, the Department determined, and CBP shall assess, antidumping duties on all appropriate entries. The Department intends to issue assessment instructions for Zhangzhou Gangchang and Zhejiang Iceman to CBP 15 days after the date of publication of these final results of new shipper reviews. Pursuant to 19 CFR 351.212(b)(1), we calculated importer-specific (or customer) ad valorem duty assessment rates based on the ratio of the total amount of the dumping margins calculated for the examined sales to the total entered value of those same sales. We will instruct CBP to assess antidumping duties on all appropriate entries covered by these reviews if any importer-specific (or customer) assessment rate calculated in the final results of these reviews are above de minimis.

Cash Deposit Requirements

The following cash deposit requirements will be effective upon publication of these final results of new shipper reviews for all shipments of subject merchandise by Zhangzhou Gangchang and Zhejiang Iceman, entered, or withdrawn from warehouse, for consumption on or after the publication date, as provided by section 751(a)(2)(C) of the Tariff Act of 1930, as amended (the Tariff Act): (1) for subject merchandise produced and exported by Zhangzhou Gangchang or produced and exported by Zhejiang Iceman, the cash deposit rate will be zero; (2) for subject merchandise exported by Zhangzhou Gangchang or Zhejiang Iceman, but not manufactured by Zhangzhou Gangchang and Zhejiang Iceman, respectively, the cash deposit rate will continue to be the PRC-wide rate (i.e., 198.63 percent); and (3) for subject merchandise manufactured by Zhangzhou Gangchang and Zhejiang Iceman, but exported by any party other than Zhangzhou Gangchang and Zhejiang Iceman, respectively, the cash deposit rate will be the rate applicable to the exporter. These cash deposit requirements will remain in effect until further notice.

Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

These new shipper reviews and notice are in accordance with sections 751(a)(2)(B) and 777(i)(1) of the Tariff Act and 19 CFR 351.214(h).

Dated: June 11, 2009.
Ronald K. Lorentzen,
Acting Assistant Secretary for Import Administration.

[FR Doc. E9-14362 Filed 6-17-09; 8:45 am]

BILLING CODE 3510-DS-S